FEDERAL COMMUNICATIONS COMMISSION

[Report No. 2460]

Petitions for Reconsideration of Action in Rulemaking Proceeding

January 4, 2001.

Petitions for Reconsideration have been filed in the Commission's rulemaking proceeding listed in this Public Notice and published pursuant to 47 CFR section 1.429(e). The full text of this document is available for viewing and copying in Room CY-A257, 445 12th Street, SW., Washington, DC, or may be purchased from the Commission's copy contractor, ITS, Inc. (202) 857-3800. Oppositions to these petitions must be filed by January 29, 2001. See section 1.4(b)(1) of the Commission's rules (47 CFR 1.4(b)(1)). Replies to an opposition must be filed within 10 days after the time for filing oppositions have expired.

Subject: Implementation of the Satellite Home Viewer Improvement Act of 1999: Application of Network Nonduplication, Syndicated Exclusivity, and Sports Blackout Rules to Satellite Retransmissions of Broadcast Signals (CS Docket No. 00-2)

Number of Petitions Filed: 3.

Federal Communications Commission.
Magalie Roman Salas,
Secretary.

[FR Doc. 01-1040 Filed 1-11-01; 8:45 am]

BILLING CODE 6712-01-M